DEPARTMENT OF TRANSPORTATION

Federal Aviation Administration

Commercial Space Transportation Advisory Committee—Public Teleconference

AGENCY: Federal Aviation Administration (FAA), DOT.

ACTION: Notice of Commercial Space Transportation Advisory Committee Teleconference.

SUMMARY: Pursuant to Section 10(a)(2) of the Federal Advisory Committee Act (Pub. L. 92-463, 5 U.S.C. App. 2), notice is hereby given of three teleconferences of the Systems Working Group of the Commercial Space Transportation Advisory Committee (COMSTAC). The teleconferences will take place on: Tuesday August 14, 2012, Tuesday September 18, 2012, and Tuesday October 23, 2012. All teleconferences will begin at 1:00 p.m. Eastern Daylight Time and will last approximately one hour. Individuals who plan to participate should contact Susan Lender, Designated Federal Officer (DFO), (the Contact Person listed below) by phone or email for the teleconference call in number.

The purpose of these three teleconferences is to assist the FAA early in its development of regulations to protect occupants of commercial suborbital and orbital spacecraft. Although the FAA has not yet targeted a date for proposing regulations to protect the health and safety of crew and space flight participants, the FAA believes that the development of sound and appropriate regulations for human space flight can only be achieved with a deliberate, multi-year effort. Moreover, the FAA believes that early industry input into this regulatory effort before any formal proposal by the FAA is critical.

Thus, the FAA would like to engage with COMSTAC on a periodic basis, approximately once per month, on specific topics. The topics for the first three teleconferences are as follows:

(1) What Level of Safety Should FAA Target? We will discuss whether the FAA should regulate to one or multiple levels of space flight safety, what level or levels of safety the FAA should attempt to achieve, and whether the level or levels of safety should be quantified. We will also discuss what level of care, short of a fatality, the FAA should be concerned with.

(2) What Should FAA Oversight Look Like? Aircraft-like certification is not feasible at this time, due to current technology and the FAA's statutory mandate only to pursue minimal regulations that take into consideration the evolving standards of safety in the commercial space flight industry. 51 U.S.C. 50905(c)(3). We will discuss what a licensing process should look like in terms of FAA oversight, whether such oversight could or should be called a “certification,” and for how long informed consent should remain in effect.

(3) What Types of Requirements and Associated Guidance Material Should FAA Develop? In general, the FAA favors space transportation regulations that are performance or process based. We will discuss the level of empirical or analytical data necessary to justify any performance-based human space flight regulation, the possible use of Advisory Circulars to add clarity to regulations, and what place government and industry standards should have in FAA licensing.

Interested members of the public may submit relevant written statements for the COMSTAC working group members to consider under the advisory process. Statements may concern the issues and agenda items mentioned above or additional issues that may be relevant for the U.S. commercial space transportation industry. Interested parties wishing to submit written statements should contact Susan Lender, DFO, (the Contact Person listed below) in writing (mail or email) by August 7, 2012, for the August 14 teleconference, September 11, 2012, for the September 18 teleconference, and October 16, 2012, for the October 23 teleconference. This way the information can be made available to COMSTAC members for their review and consideration before each teleconference. Written statements should be supplied in the following formats: one hard copy with original signature or one electronic copy via email. The FAA may schedule up to 10 more teleconferences in the coming months to allow the U.S. commercial space transportation industry to share views with the FAA on a number of specific topics related to commercial human space flight safety.

An agenda will be posted on the FAA Web site at http://www.faa.gov/go/ast.

Individuals who plan to participate and need special assistance should inform the Contact Person listed below in advance of the meeting.

FOR FURTHER INFORMATION CONTACT: Susan Lender (AST-5), Office of Commercial Space Transportation (AST), 800 Independence Avenue SW., Room 331, Washington, DC 20591, telephone (202) 267-8029; Email susan.lender@faa.gov. Complete information regarding COMSTAC is available on the FAA Web site at: http://www.faa.gov/about/office_org/headquarters_offices/ast/advisory_committee/.

Issued in Washington, DC, July 23, 2012.
George C. Nield,
Associate Administrator for Commercial Space Transportation.

[FR Doc. 2012-18555 Filed 7-27-12; 8:45 am]

BILLING CODE 4910-13-P